DEPARTMENT OF THE INTERIOR

Bureau of Indian Affairs

[245A2100DD/AAKC001030/A0A51010.999900]

Proclaiming Certain Lands as Reservation for the Three Affiliated Tribes of the Fort Berthold Reservation, North Dakota

AGENCY: Bureau of Indian Affairs, Interior.

ACTION: Notice of reservation proclamation.

SUMMARY: This notice informs the public that the Assistant Secretary—Indian Affairs proclaimed approximately 2,099.29 acres, more or less, an addition to the reservation of the Three Affiliated Tribes of the Fort Berthold Reservation, North Dakota.

DATES: This proclamation was made on July 8, 2024.

FOR FURTHER INFORMATION CONTACT: Ms. Carla Clark, Bureau of Indian Affairs, Acting Division of Real Estate Services, Office of Trust Services,1001 Indian School Road, NW, Box #44, Albuquerque, New Mexico 87104, carla.clark@bia.gov, (505) 563-3132.

SUPPLEMENTARY INFORMATION: This notice is published in the exercise of authority delegated by the Secretary of the Interior to the Assistant Secretary—Indian Affairs by part 209 of the Departmental Manual.

A proclamation was issued according to the Act of June 18, 1934 (48 Stat. 984; 25 U.S.C. 5110) for the lands described below. The lands are proclaimed to be the Three Affiliated Tribes of the Fort Berthold Reservation, North Dakota in Dunn County, North Dakota.

Three Affiliated Tribes of the Fort Berthold Reservation, North Dakota, Dunn County, North Dakota, Legal Descriptions Containing Approximately 2,099.29 Acres, More or Less

301 T 5629 Fettig Ranch Parcel

Fifth Principal Meridian, North Dakota,

T. 147 N., R. 95 W.

Sec 2, SW¼NW¼, W½SW¼, and SW¼SE¼, Except Tract K-917 as described in the Declaration of Taking in Document No. 138506 recorded August 24, 1979;

Sec 3, Lot 4, S½NE¼, S½NW¼, and S½, Except Parcel No. 42 as described in Document No. 119129 recorded September 30, 1971, also Except Parcel 2-1 as described in Document No. 3058964 recorded May 31, 2012, and also Except parcel Nos. 12-1 & 13-1 as described in Document No. 3058965 recorded May 31, 2012;

Sec 9,

Sec 10, NW¼NE¼, E½NW¼, E½SW¼, and SW¼SW¼, Except the following ten (10) parcels:

1. Parcel No. 43 as described in Document No. 119129 recorded September 30, 1971

2. Parcel No. 2-1 as described in Document No. 185918 recorded August 30, 1993

3. Parcel No. 2-3 as described in Document No. 186633 recorded November 9, 1993

4. Parcel No. 2-5 as described in Document No. 186800 recorded December 2, 1993

5. Parcel Nos. 2B-1 & 2B-2 as described in Document No. 188712 recorded August 4, 1994

6. Parcel No. 2C-1 as described in Document No. 189972 recorded March 23, 1995

7. Parcel No. 2D-4 as described in Document No. 3001728 recorded July 14, 1999

8. Parcel No. 1-1 as described in Document No. 3058964 recorded May 31, 2012

9. Parcel Nos. 10-1 & 11-1 as described in Document No. 3058965 recorded May 31, 2012

10. A tract of land as described in Document No. 3090534 recorded December 27, 2019;

Sec 11, W½NE¼, SE¼NE¼, W½, and SE¼ Except Tract K-917-2 as described in the Declaration of Taking in Document No. 138506 recorded August 24, 1979;

Sec 12, S½NE¼SW¼, and S½SW¼.

All referenced documents are recorded in the Clerk and Recorder's Office in Dunn County, North Dakota. The areas described aggregate 2,099.29 acres, more or less. Surface only.

The above described lands contain a total of 2,099.29 acres, more or less, which are subject to all valid rights, reservations, rights-of-way, and easements of record.

This proclamation does not affect title to the lands described above, nor does it affect any valid existing easements for public roads, highways, public utilities, railroads and pipelines, or any other valid easements or rights-of-way or reservations of record.

Bryan Newland,
Assistant Secretary—Indian Affairs.

[FR Doc. 2024-15680 Filed 7-16-24; 8:45 am]

BILLING CODE 4337-15-P